FEDERAL TRADE COMMISSION

Granting of Request for Early Termination of the Waiting Period Under the Premerger Notification Rules

Section 7A of the Clayton Act, 25 U.S.C. 18a, as added by Title II of the Hart-Scott-Rodino Antitrust Improvement Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—08/14/2006
20061432 | Valassis Communications, Inc | ADVO, Inc | ADVO, Inc.
20061492 | Westerra Credit Union | Gateway Credit Union | Gateway Credit Union.
20061508 | Motient Corporation | SkyTerra Communications, Inc | SkyTerra Communications, Inc.
20061512 | CSM nv | Sam L. Stolbun and Alana R. Spiwak (Spouses) | CGI Desserts, Inc.
20061514 | Thoma Cressey Fund VII, L.P | Excelligence Learning Corporation | Excelligence Learning Corporation
20061516 | Dennis Mehiel | LINPAC Group Limited | LINPAC America Inc., LINPAC Inc., PICNAL Acquisition Inc.
20061520 | J.P. Morgan Chase & Co | NCO Group, Inc | NCO Group, Inc.
20061521 | Genworth Financial, Inc | AssetMark Investment Services, Inc | AssetMark Investment Service, Inc.
20061523 | Paul Tudor Jones II | First Avenue Networks, Inc | First Avenue Networks, Inc.
20061525 | AXA S.A | Credit Suisse Group | Winterthur Schweizerische, Versicherungs-Gesellschaft
20061535 | Silver Lake Partners II, L.P | IPC Acquisition Corp | IPC Acquisition Corp.
20061536 | Sunoco Logistics Partners L.P | Sunoco, Inc | Sunoco, Inc.
20061537 | GGC Investment Fund II, L.P | Symphony Technology Fund II-A, L.P | GERS Holdings, Inc.
20061542 | Applied Micro Circuits Corporation | Quake Technologies, Inc | Quake Technologies, Inc.
20061544 | Brachem Acquisition SCA | Brenntag-Interfer (BC) SCA | Brenntag Investor Holding GmbH.
20061547 | Robert G. Burton, Sr | Cenveo, Inc | Cenveo, Inc.
20061549 | Parthenon Investors III, LP | William Blair Capital Partners VII QP, L.P | PRIMIS Marketing Group, Inc.
Transactions Granted Early Termination—08/15/2006
20061456 | Owens & Minor, Inc | McKesson Corporation | McKesson Medical Surgical Inc.
20061538 | Honda Motor Co., Ltd | XM Satellite Radio Holdings, Inc | XM Satellite Radio Holdings, Inc.
Transactions Granted Early Termination—08/16/2006
20061541 | Inverness Partners II L.P | The Hartford Financial Services Group, Inc | Omni Insurance Group, Inc.
20061551 | Eyk Van Otterloo | Scott M. Spangler | Chemonics International, Inc.
Transactions Granted Early Termination—08/17/2006
20061454 | Umbrella Holdings, LLC | A. Jerrold Perenchio | Univision Communications, Inc.
20061522 | American International Group, Inc | Advanced Disposal Services, Inc | Advanced Disposal Services, Inc.
20061585 | Boyd Gaming Corporation | Stephen F. Snyder | Summersport Enterprises, LLP, The Aragon Group, Inc.
Transactions Granted Early Termination—08/18/2006
20061513 | CHC Inc | US BioEnergy Corporation | US BioEnergy Corporation.
20061552 | Hercules Holding II, LLC | HCA, Inc | HCA Inc.
20061560 | Motorola, Inc | Broadbus Technologies, Inc | Broadbus Technologies, Inc.
20061563 | Wolters Kluwer nv | United Communications Group, LP | ATX II LLC
20061570 | Viceroy Acquisition Corporation | Eastman Chemical Company | Eastman SE, Inc.
20061573 | Hellman & Friedman Capital Partners V, L.P | Jay Alix | AlixPartners, LLP
20061577 | Schurz Communications, INc | Media General, Inc | CBS Affiliate KWCH (Hutchinson, Kansas), CBS Satellite KBSD (Ensign, Kansas), CBS Satellite KBSH (Hays, Kansas), CBS Satellite KBSL (Goodland, Kansas)
20061578 | ConvergEx Holdings, LLC | Eze Castle Software, Inc | Eze Castle Software, Inc.
20061579 | Grupo Modelo, S.A. de C.V | Crown Imports LLC | Crown Imports LLC
20061582 | ConvergEx Holdings, LLC | The Bank of New York Company, Inc | B-Trade Services LLC; G-Trade Services Ltd.
Transactions Granted Early Termination—08/21/2006
20061472 | Primedix Health Systems, Inc | Radiologix, Inc | Radiologix, Inc.
20061586 | SAS Rue La Boétie | Garry B. Crowder | Ursa Capital LLC.
Transactions Granted Early Termination—08/22/2006
20061526 | Marvell Technology Group Ltd | Intel Corporation | Intel Corporation.
20061581 | ABRY Partners IV, L.P | Gordon Gray 1956 Living Trust | G Force, LLC.
Transactions Granted Early Termination—08/25/2006
20061555 | Sageview Capital Master, Ltd | Invitrogen Corporation | Invitrogen Corporation.
20061556 | Orthofix International N.V | Blackstone Medical, Inc | Blackstone Medical, Inc.
Transactions Granted Early Termination—08/28/2006
20061545 | Airgas, Inc | American Capital Strategies, Ltd | Aeriform Corporation.
Transactions Granted Early Termination—08/29/2006
20061558 | Columbia Capital Equity Partners III (QP), L.P | SkyTerra Communications, Inc | SkyTerra Communications, Inc.
20061596 | HCC Insurance Holdings, Inc | Allianz Aktiengesellschaft | Allianz Life Insurance Company of North America.
20061598 | GGC Investment Fund II, L.P | Jonathan B. Eager | CCS Holdings, LLC.
20061599 | International Business Machines Corporation | MRO Software, Inc | MRO Software, Inc.
20061600 | Time Warner Inc | James Monroe III | Xspedius Communications, LLC.
20061601 | Kaslion S.àr.l., a to-be-formed Luxembourg S.àr.l | Koninklijke Phillips Electronics N.V | Phillips Semiconductors International B.V.
20061604 | Lion Capital Fund I, L.P | Kettle Foods Holdings, Inc | Kettle Foods Holdings, Inc.
20061605 | TA X L.P | Professional Warranty Services Corporation | Professional Warranty Services Corporation.
20061606 | U.S. Bancorp | SunTrust Banks, Inc | SunTrust Bank.
20061608 | Lenard Liberman | Entravision Communications Corporation | Entravision Holdings, LLC, Entravision-Texas Limited Partnership.
20061610 | Cortina Systems, Inc | Intel Corporation | Intel Corporation.
20061612 | Crown Castle International Corp | First Avenue Networks, Inc | First Avenue Networks, Inc.
20061613 | Mattel, Inc | Radice Games Limited | Radice Games Limited.
20061621 | Kelso InvestmentAssociates VII, L.P | Renfro Corporation | Renfro Corporation.
20061625 | New Mountain Partners II, L.P | Connextions, Inc | Connextions, Inc.
20061626 | Oak Investment Partners XI, L.P | Airspan Networks Inc | Airspan Networks Inc.
20061627 | ABRY Partners V, L.P | Cast & Crew Payroll, Inc | BTL Payments, LLC, B-T-L Payrolls, LLC, BTL/WD Studio Products, LLC, Cast & Crew Associated Payroll, LLC, Cast & Crew BV Payroll, LLC, Cast & Crew Cable Payroll, LLC, Cast & Crew Capital, Inc., Cast & Crew/Cinehub, LLC, Cast & Crew Entertainment Services, Inc., Cast & Crew Film Services, LLC, Cast & Crew Production Payroll, LLC, Cast & Crew Production Services, LLC, Cast & Crew Studio Payroll LLC, Cast & Crew Talent Services, LLC, Cast & Crew WD Payroll, LLC, Cast & Crew WD Studio Payroll, LLC, C&C-DTV Payroll, LLC, C&C-DTV Production Payroll, LLC, C&C-WD Film Payroll, LLC, C&C WD Film Services, LLC, C&C-WD Studio Productions, LLC, C.D. Payroll, LLC.
20061630 | Small Smiles Holding Company, Inc | FORBA, LLC | FORBA NY, LLC.
20061634 | Bain Capital Fund IX, L.P | Trevor Lloyd | Yellowstone Holding Company.
20061636 | SFK Pulp Fund | AFR Holdco, Inc | American Fiber International of New York, Inc., American Fiber Resources LLC, Great Lakes Pulp Company, Pulp & Paper Holdco, Inc.
20061638 | Bank of America Corporation | Allegacy Federal Credit Union | FIA Card Services, N.A.
20061643 | Vector Capital III, L.P | WatchGuard Technologies, Inc | WatchGuard Technologies, Inc.
Transactions Granted Early Termination—08/30/2006
20061565 | ValueAct Capital Master Fund, L.P | MDS, Inc | MDS, Inc.
20061632 | EPCOR Power L.P | ASP III Alternative Investments, L.P | Primary Energy Ventures LLC.
20061650 | Nokia Corporation | Loudeye Corp | Loudeye Corp.
Transactions Granted Early Termination—08/31/2006
20061511 | Greif, Inc | Riverside XII Holding Company (Delta) L.P | Delta Petroleum Company, Inc.
20061562 | Novartis AG | Momenta Pharmaceuticals, Inc | Momenta Pharmaceuticals, Inc.
20061568 | ProQuest Company | Trevor Lloyd | Dealer Computer Services, Inc.
20061592 | A.M. Castle & Co | H.I.G. Transtar, Inc | Transtar Intermediate Holdings #2, Inc.
Transactions Granted Early Termination—09/01/2006
20061624 | Sageview Capital Master, Ltd | Guitar Center, Inc | Guitar Center, Inc.

For Further Information Contact: Sandra M. Peay, Contact Representative, or Renee Hallman, Contact Representative, Federal Trade Commission, Premerger Notification Office, Bureau of Competition, Room H-303, Washington, DC 20580. (202) 326-3100.

By Direction of the Commission.
Donald S. Clark,
Secretary.

[FR Doc. 06-7610 Filed 9-12-06; 8:45 am]

BILLING CODE 6750-01-M